DEPARTMENT OF TRANSPORTATION

Federal Highway Administration

Environmental Impact Statement: Chemung County, New York

AGENCY: Federal Highway Administration (FHWA), New York State Department of Transportation (NYSDOT).

ACTION: Notice of intent.

SUMMARY: The FHWA is issuing this notice to advise the public that an environmental impact statement will be prepared for upgrading portions of NYS Route 17 to meet federal interstate standards in Chemung County, New York.

FOR FURTHER INFORMATION CONTACT: Harold J. Brown, Division Administrator, Federal Highway Administration, New York Division,Leo W. O'Brien Federal Building, 7th Floor, Clinton Avenue and North Pearl Street, Albany, New York 12207, Telephone (518) 431-4127; or Peter E. White, Regional Director, New York State Department of Transportation, Region 6, 107 Broadway, Hornell, New York 14873, Telephone (607) 324-8404.

SUPPLEMENTARY INFORMATION: The FHWA, in cooperation with the New York State Department of Transportation, will be preparing an Environmental Impact Statement (EIS) on a proposal to upgrade a 16 kilometer (10 mile) section of Route 17/Southern Tier Expressway to a fully controlled access freeway from just east of the Water Street-Exit 57 Interchange to the Route 427—Exit 59 Interchange within the Towns of Elmira, Ashland, Chemung and City of Elmira in Chemng County, New York. The proposal would involve the elimination of existing driveway connections and at-grade intersections, construction of two-lane local road segments on new alignment (to re-establish access) and reconstruction of the Route 17 mainline pavement on this highway section.

This highway upgrade is necessary to separate local and through traffic to reduce the occurrence of accidents related to turning movements to and from Route 17 to access commercial and residential properties as well as adjoining local streets. Additionally, the proposed project is necessary to bring this portion of Route 17 up to interstate standards for future designations as I-86.

Alternatives under consideration include a “No-build” and a “Build” alternative. The No-Build alternative is an alternative that involves no new construction and/or roadway improvements. The Build alternative will include the elimination of driveways and at-grade intersections and adjustments to the local roadway system necessary to re-establish access. The Build alternative has many possible variations associated with the overall roadway section and right-of-way widths. The design process will identify the optimum combination of property acquisition and road work required.

Letters describing the proposed action and soliciting comments will be sent to appropriate Federal, State and local agencies, and to private organizations and citizens who have previously expressed interest in this proposal. The NEPA scoping process will be initiated in August 2000 and a public hearing will be held in the future at a time and place to be announced. The Draft-EIS, when prepared, will be available for public and agency review/comment.

To ensure that a full range of issues related to this proposed action are addressed and all significant issues identified, comments and suggestions are invited from all interested parties. Comments or questions concerning this proposed action and the EIS should be directed to the FHWA or NYSDOT at the addresses provided above.

(Catalog of Federal Domestic Assistance Program Number 20.205, Highway Research, Planning and Construction. The regulations implementing Executive Order 12372 regarding intergovernmental consultation on Federal programs and activities apply to this program.)

Authority: 23 U.S.C. 315; 23 CFR 771.123.

Issued on: August 21, 2000.
Doug P. Conlan,
District Engineer, Federal Highway Administration, Albany, New York.

[FR Doc. 00-22464 Filed 8-31-00; 8:45 am]

BILLING CODE 4910-22-M